SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: August 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (f)(13) and 18 CFR 806.22 (f) for the time period specified above:

Water Source Approval—Issued Under 18 CFR 806.22(f)

1. Chesapeake Appalachia, L.L.C.; Pad ID: Slumber Valley; ABR-201008015.R2; Meshoppen Township, Wyoming County, Pa.; Consumptive Use of Up to 7.5000 mgd; Approval Date: August 3, 2020.

2. XTO Energy, Inc.; Pad ID: Tome 8522H; ABR-20100556.R2; Moreland Township, Lycoming County, Pa.; Consumptive Use of Up to 4.0000 mgd; Approval Date: August 4, 2020.

3. XTO Energy, Inc.; Pad ID: Moser 8521H; ABR-20100641.R2; Franklin Township, Lycoming County, Pa.; Consumptive Use of Up to 4.0000 mgd; Approval Date: August 4, 2020.

4. BKV Operating, LLC; Pad ID: Sickler 5H; ABR-20100679.R2; Washington Township, Wyoming County, Pa.; Consumptive Use of Up to 5.0000 mgd; Approval Date: August 6, 2020.

5. Chesapeake Appalachia, L.L.C.; Pad ID: Lattimer; ABR-201008038.R2; Litchfield Township, Bradford County, Pa.; Consumptive Use of Up to 7.50000 mgd; Approval Date: August 6, 2020.

6. Inflection Energy (PA), LLC.; Pad ID: Strouse Well Pad; ABR-201505002.R1; Hepburn Township, Lycoming County, Pa.; Consumptive Use of Up to 4.0000 mgd; Approval Date: August 6, 2020.

7. XTO Energy, Inc.; Pad ID: Brown 8519H; ABR-20100604.R2; Moreland Township, Lycoming County, Pa.; Consumptive Use of Up to 4.0000 mgd; Approval Date: August 6, 2020.

8. Chesapeake Appalachia, L.L.C.; Pad ID: Dave; ABR-201008107.R2; Albany Township, Bradford County, Pa.; Consumptive Use of Up to 7.5000 mgd; Approval Date: August 18, 2020.

9. Tilden Marcellus, LLC; Pad ID: Simonetti 817 (rev); ABR-20100545.R2; Gaines Township, Tioga County, Pa.; Consumptive Use of Up to 4.9900 mgd; Approval Date: August 18, 2020.

10. Tilden Marcellus, LLC; Pad ID: Coon Hollow 904; ABR-20100560.R2; West Branch Township, Potter County, Pa.; Consumptive Use of Up to 4.9900 mgd; Approval Date: August 18, 2020.

11. Range Resources—Appalachia, LLC; Pad ID: Harman, Lewis Unit #1H; ABR-20100554.R2; Moreland Township, Lycoming County, Pa.; Consumptive Use of Up to 0.1000 mgd; Approval Date: August 18, 2020.

12. ARD Operating, LLC; Pad ID: COP Tr 728 Pad A; ABR-20100631.R2; Watson Township, Lycoming County, Pa.; Consumptive Use of Up to 4.0000 mgd; Approval Date: August 18, 2020.

13. ARD Operating, LLC; Pad ID: David C Duncan Pad A; ABR-20100635.R2; Cascade Township, Lycoming County, Pa.; Consumptive Use of Up to 4.0000 mgd; Approval Date: August 18, 2020.

14. ARD Operating, LLC; Pad ID: COP Tr 289 C; ABR-20100636.R2; McHenry Township, Lycoming County, Pa.; Consumptive Use of Up to 4.0000 mgd; Approval Date: August 19, 2020.

15. Chief Oil & Gas, LLC.; Pad ID: Bedford; ABR-201008139.R2; Elkland Township, Sullivan County, Pa.; Consumptive Use of Up to 7.5000 mgd; Approval Date: August 21, 2020.

16. Chief Oil & Gas, LLC.; Pad ID: Hottenstein; ABR-201008148.R2; Forks Township, Sullivan County, Pa.; Consumptive Use of Up to 7.5000 mgd; Approval Date: August 26, 2020.

17. Chief Oil & Gas, LLC.; Pad ID: Benspond; ABR-201008146.R2; Elkland Township, Sullivan County, Pa.; Consumptive Use of Up to 7.5000 mgd; Approval Date: August 26, 2020.

18. Chesapeake Appalachia, L.L.C.; Pad ID: Fremar; ABR-201008147.R2; Fox Township, Sullivan County, Pa.; Consumptive Use of Up to 7.5000 mgd; Approval Date: August 26, 2020.

19. Chesapeake Appalachia, L.L.C.; Pad ID: Roundtop; ABR-201008067.R2; Colley Township, Sullivan County, Pa.; Consumptive Use of Up to 7.5000 mgd; Approval Date: August 26, 2020.

20. Repsol Oil & Gas USA, LLC; Pad ID: ROY (03 046) B; ABR-20100629.R2; Wells Township, Bradford County, Pa.; Consumptive Use of Up to 6.0000 mgd; Approval Date: August 26, 2020.

21. Repsol Oil & Gas USA, LLC; Pad ID: LYON (01 078) S; ABR-20100696.R2; Troy Township, Bradford County, Pa.; Consumptive Use of Up to 6.0000 mgd; Approval Date: August 26, 2020.

22. Tilden Marcellus, LLC; Pad ID: Pierson 810; ABR-20100633.R2; Gaines Township, Tioga County, Pa.; Consumptive Use of Up to 4.9900 mgd; Approval Date: August 26, 2020.

23. Range Resources—Appalachia, LLC; Pad ID: Shohocken Hunt Club Unit #1H—#6H; ABR-20100646.R2; Cummings Township, Lycoming County, Pa.; Consumptive Use of Up to 2.0000 mgd; Approval Date: August 26, 2020.

24. Repsol Oil & Gas USA, LLC; Pad ID: ROY (03 040) B; ABR-20100650.R2; Wells Township, Bradford County, Pa.; Consumptive Use of Up to 6.0000 mgd; Approval Date: August 28, 2020.

25. Repsol Oil & Gas USA, LLC; Pad ID: SCHUCKER (03 006) A; ABR-20100654.R2; Columbia Township, Bradford County, Pa.; Consumptive Use of Up to 6.0000 mgd; Approval Date: August 28, 2020.

26. Repsol Oil & Gas USA, LLC; Pad ID: FEUSNER (03 053) J; ABR-201006100.R2; Columbia Township, Bradford County, Pa.; Consumptive Use of Up to 6.0000 mgd; Approval Date: August 28, 2020.

27. ARD Operating, LLC.; Pad ID: Larry's Creek F&G Pad D; ABR-20100684.R2; Cummings Township, Lycoming County, Pa.; Consumptive Use of Up to 4.0000 mgd; Approval Date: August 28, 2020.

28. EXCO Resources (PA), LLC; Pad ID: Confer (Pad 32); ABR-20100699.R2; Burnside Township, Centre County, Pa.; Consumptive Use of Up to 3.0000 mgd; Approval Date: August 28, 2020.

Authority: Pub. L. 91-575, 84 Stat. 1509 et seq., 18 CFR parts 806, 807, and 808.

Dated: September 22, 2020.
Jason E. Oyler,
General Counsel and Secretary to the Commission.

[FR Doc. 2020-21189 Filed 9-24-20; 8:45 am]

BILLING CODE 7040-01-P